DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

American Short Line and Regional Railroad Association

[Waiver Petition Docket Number FRA-2003-16271]

American Short Line and Regional Railroad Association (ASLRRA), on behalf of their membership, seeks a waiver of compliance from the requirements of the Locomotive Safety Standards, 49 CFR part 229.23, which requires periodic inspection of all locomotives at intervals not to exceed ninety-two (92) days, and from the requirements 49 CFR 229.25, which identify items to be inspected during a periodic inspection. ALSRRA believes that the short line and regional railroads that it represents do not operate their locomotive in the same environment as the larger Class I railroads. They feel that Class I railroads operate twenty-four hours a day, seven days a week, with longer and heavier trains, over greater distances then short line and regional railroads. ALSRRA feels that the Locomotive Safety Standards periodic inspection and testing requirements should recognize this. If granted, the ALSRRA feels that its members should be allowed to perform the periodic, during required, annual inspections 49CFR 229.27.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2003-16271) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on November 26, 2003.
Grady C. Cothen, Jr.,
Deputy Associate Administrator for Safety Standards and Program Development.

[FR Doc. 03-30100 Filed 12-2-03; 8:45 am]

BILLING CODE 4910-06-P